DEPARTMENT OF ENERGY

Federal Energy Regulatory Commission

Combined Notice of Filings #1

Take notice that the Commission received the following electric rate filings:

Docket Numbers: ER18-459-001.

Applicants: PJM Interconnection, L.L.C.

Description: Compliance filing: OVEC and PJM Request for Extended Tariff Effective Date (Tariff, OA, RAA) to be effective N/A.

Filed Date: 4/17/18.

Accession Number: 20180417-5167.

Comments Due: 5 p.m. ET 5/8/18.

Docket Numbers: ER18-460-001.

Applicants: PJM Interconnection, L.L.C.

Description: Compliance filing: OVEC and PJM Request for Extended Tariff Effective Date (CTOA) to be effective N/A.

Filed Date: 4/17/18.

Accession Number: 20180417-5170.

Comments Due: 5 p.m. ET 5/8/18.

Docket Numbers: ER18-832-002.

Applicants: Public Service Company of New Mexico.

Description: Tariff Amendment: Amendment to eTariff Filings to be effective 1/29/2018.

Filed Date: 4/17/18.

Accession Number: 20180417-5166.

Comments Due: 5 p.m. ET 5/8/18.

Docket Numbers: ER18-907-002.

Applicants: Public Service Company of New Mexico.

Description: Tariff Amendment: Amendment to eTariff Filings to be effective 2/9/2018.

Filed Date: 4/17/18.

Accession Number: 20180417-5169.

Comments Due: 5 p.m. ET 5/8/18.

Docket Numbers: ER18-1385-000.

Applicants: PJM Interconnection, L.L.C.

Description: § 205(d) Rate Filing: Cleanup of Sch 12 re: Previously accepted language & add non-ministerial changes to be effective 7/18/2016.

Filed Date: 4/17/18.

Accession Number: 20180417-5193.

Comments Due: 5 p.m. ET 5/8/18.

Docket Numbers: ER18-1386-000.

Applicants: Southern California Edison Company.

Description: § 205(d) Rate Filing: Amended LGIA Desert Harvest Project to be effective 4/19/2018.

Filed Date: 4/18/18.

Accession Number: 20180418-5007.

Comments Due: 5 p.m. ET 5/9/18.

Docket Numbers: ER18-1387-000.

Applicants: Kansas City Power & Light Company.

Description: Notice of Cancellation of Municipal Participation Agreement [Rate Schedule No. 85] of Kansas City Power & Light.

Filed Date: 4/17/18.

Accession Number: 20180417-5226.

Comments Due: 5 p.m. ET 5/8/18.

Docket Numbers: ER18-1388-000.

Applicants: Kansas City Power & Light Company.

Description: Notice of Cancellation of Municipal Participation Agreement [Rate Schedule No. 78] of Kansas City Power & Light.

Filed Date: 4/17/18.

Accession Number: 20180417-5227.

Comments Due: 5 p.m. ET 5/8/18.

Docket Numbers: ER18-1389-000.

Applicants: Kansas City Power & Light Company.

Description: Notice of Cancellation of Municipal Participation Agreement [Rate Schedule No. 77] of Kansas City Power & Light.

Filed Date: 4/17/18.

Accession Number: 20180417-5228.

Comments Due: 5 p.m. ET 5/8/18.

Docket Numbers: ER18-1390-000.

Applicants: Kansas City Power & Light Company.

Description: Notice of Cancellation of Municipal Participation Agreement [Rate Schedule No. 90] of Kansas City Power & Light.

Filed Date: 4/17/18.

Accession Number: 20180417-5229.

Comments Due: 5 p.m. ET 5/8/18.

Docket Numbers: ER18-1391-000.

Applicants: Unitil Service Corp.

Description: Unitil Power Corp submits Statement of all billing transactions under the Amended Unitil System Agreement for the period January 1, 2017 to December 31, 2017.

Filed Date: 4/18/18.

Accession Number: 20180418-5077.

Comments Due: 5 p.m. ET 5/9/18.

Docket Numbers: ER18-1392-000.

Applicants: Public Service Company of New Mexico.

Description: § 205(d) Rate Filing: eTariff Administrative Filing of OATT Revisions to be effective 11/1/2013.

Filed Date: 4/18/18.

Accession Number: 20180418-5117.

Comments Due: 5 p.m. ET 5/9/18.

Docket Numbers: ER18-1394-000.

Applicants: PacifiCorp.

Description: Tariff Cancellation: Termination of Idaho Power Migration Agmt—LaGrande/Pocatello to be effective 6/18/2018.

Filed Date: 4/18/18.

Accession Number: 20180418-5169.

Comments Due: 5 p.m. ET 5/9/18.

Docket Numbers: ER18-1395-000.

Applicants: PJM Interconnection, L.L.C.

Description: § 205(d) Rate Filing: Original ISA SA No. 5044; Queue No. AB1-013 to be effective 3/19/2018.

Filed Date: 4/18/18.

Accession Number: 20180418-5205.

Comments Due: 5 p.m. ET 5/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2018.
Nathaniel J. Davis, Sr.,
Deputy Secretary.

[FR Doc. 2018-08488 Filed 4-23-18; 8:45 am]

BILLING CODE 6717-01-P